DEPARTMENT OF THE INTERIOR

National Park Service

[NPS-WASO-CONC-ABSV-14348; PPWOBSADC0, PPMVSCS1Y.Y00000]

Notice of Continuation of Visitor Services

AGENCY: National Park Service, Interior.

ACTION: Public Notice.

SUMMARY: Pursuant to the terms of existing concession contracts, public notice is hereby given that the National Park Service intends to request a continuation of visitor services for the periods specified below.

DATES: Effective Date: January 1, 2014.

FOR FURTHER INFORMATION CONTACT: Ben Erichsen, Chief, Commercial Services Program, National Park Service, 1201 Eye Street NW., 11th Floor, Washington, DC 20005, Telephone, (202) 513-7156.

SUPPLEMENTARY INFORMATION: The contracts listed below have been extended to the maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

CONCID | Concessioner | Park unit
NACE001-89 | Golf Course Specialists, Inc | National Mall and Memorial Parks.
NACE003-86 | Guest Services, Inc | National Mall and Memorial Parks.
BLRI001-93 | Southern Highland Handicraft Guild, Inc | Blue Ridge Parkway.
CAHA001-98 | Avon-Thornton Limited Partnership | Cape Hatteras National Seashore.
CAHA004-98 | Oregon Inlet Fishing Center, Inc | Cape Hatteras National Seashore.
MACA002-82 | Forever NPC Resorts, LLC | Mammoth Cave National Park.
VIIS001-71 | CBI Acquisitions, LLC | Virgin Islands National Park.
OZAR012-88 | Akers Ferry Canoe Rental, Inc | Ozark National Scenic Riverways.
GLAC002-81 | Glacier Park, Inc | Glacier National Park.
GLCA002-88 | ARAMARK Sports and Entertainment Services, Inc | Glen Canyon National Recreation Area.
GLCA003-69 | ARAMARK Sports and Entertainment Services, Inc | Glen Canyon National Recreation Area.
GRCA003-97 | D.N.C. Parks and Resorts at Grand Canyon, Inc | Grand Canyon National Park.
MEVE001-82 | ARAMARK Mesa Verde Company, Inc | Mesa Verde National Park.
PEFO001-85 | Xanterra Parks & Resorts, Inc | Petrified Forest National Park.
LAKE001-73 | Rex G. Maughan & Ruth G. Maughan | Lake Mead National Recreation Area.
LAKE002-82 | Lake Mead RV Village, LLC | Lake Mead National Recreation Area.
LAKE004-88 | Lake Mead Cruises | Lake Mead National Recreation Area.
LAKE005-97 | Rex G. Maughan | Lake Mead National Recreation Area.
LAKE006-74 | Las Vegas Boat Harbor, Inc | Lake Mead National Recreation Area.
LAKE007-84 | Seven Resorts, Inc | Lake Mead National Recreation Area.
LAKE009-88 | Temple Bar Marina, LLC | Lake Mead National Recreation Area.

Under the provisions of current concession contracts and pending the completion of the public solicitation of a prospectus for a new concession contract, the National Park Service authorizes continuation of visitor services until the dates shown under the terms and conditions of the current contract as amended. The continuation of operations does not affect any rights with respect to selection for award of a new concession contract.

CONCID | Concessioner | Extend until
INDE001-94 | Concepts by Staib, Ltd | December 31, 2014.
LARO001-92 | Dakota Columbia Rentals, LLC | March 31, 2014.

Dated: December 5, 2013.
Lena McDowall,
Associate Director, Business Services.

[FR Doc. 2013-30574 Filed 12-23-13; 8:45 am]

BILLING CODE 4312-53-P